DEPARTMENT OF HOMELAND SECURITY

Coast Guard

33 CFR Part 100

[Docket No. USCG-2009-0917]

Notice of Enforcement for Special Local Regulation; Mission Bay Parade of Lights; Mission Bay, San Diego, CA

AGENCY: Coast Guard, DHS.

ACTION: Notice of enforcement of regulation.

SUMMARY: The Coast Guard will enforce the Mission Bay Parade of Lights Special Local Regulation on Mission Bay, CA from 5 p.m. through 10 p.m. on 12 December 2009. This action is necessary to provide for the safety of the participants, crew, spectators, sponsor vessels of the race, and general users of the waterway. During the enforcement period, no spectators shall anchor, block, loiter in, or impede the through transit of participants or official patrol vessels in the regulated area during the effective dates and times, unless cleared for such entry by or through an official patrol vessel.

DATES: The regulations in 33 CFR 100.1101 will be enforced from 5 p.m. through 10 p.m. on 12 December 2009.

FOR FURTHER INFORMATION CONTACT: If you have questions on this notice, call or e-mail Petty Officer Corey McDonald, Waterways Management, U.S. Coast Guard Sector San Diego, Coast Guard; telephone 619-278-7262, e-mail Corey.R.McDonald@uscg.mil.

SUPPLEMENTARY INFORMATION:

The Coast Guard will enforce the special local regulation for the annual Mission Bay Parade of Lights in 33 CFR 100.1101 from 5 p.m. through 10 p.m. on 12 December 2009.

Under the provisions of 33 CFR 100.1101, a vessel may not enter the regulated area, unless it receives permission from the COTP. Spectator vessels may safely transit outside the regulated area but may not anchor, block, loiter in, or impede the transit of ship parade participants or official patrol vessels. The Coast Guard may be assisted by other Federal, State, or local law enforcement agencies in enforcing this regulation.

This notice is issued under authority of 33 CFR 100.1101 and 5 U.S.C. 552(a). In addition to this notice in the Federal Register, the Coast Guard will provide the maritime community with extensive advance notification of this enforcement period via the Local Notice to Mariners and marine information broadcasts. If the COTP or his designated representative determines that the regulated area need not be enforced for the full duration stated in this notice, he or she may use a Broadcast Notice to Mariners to grant general permission to enter the regulated area.

Dated: November 13, 2009.
T. H. Farris,
Captain, U.S. Coast Guard, Captain of the Port San Diego.

[FR Doc. E9-28703 Filed 11-30-09; 8:45 am]

BILLING CODE 9910-04-P